DEPARTMENT OF DEFENSE

Department of the Army, Corps of Engineers

Intent To Prepare an Environmental Impact Statement for the Upper Ohio Navigation Study, PA, in Allegheny and Beaver Counties

AGENCY: Department of the Army, U.S. Army Corps of Engineers, DoD.

ACTION: Notice of intent.

SUMMARY: Pursuant to the National Environmental Policy Act (NEPA), the Pittsburgh District of the U.S. Army Corps of Engineers (Corps) is seeking public comment on the environmental scope of an upcoming study, named the “Upper Ohio Navigation Study, Pennsylvania.” This study will consider and evaluate the feasibility of alternatives for maintaining commercial navigation on the Pennsylvania portion of the Ohio River, and also consider and evaluate the feasibility of ecosystem restoration opportunities.

The focus of the upper Ohio River navigation feasibility study is to develop the best plan for maintaining safe, environmentally sustainable, and reliable navigation on the upper 40 miles of the Ohio River in Pennsylvania. Navigation is currently provided through three old lock and dam facilities—Emsworth, Dashields and Montgomery locks and dams—dating from the 1920s. The study will consider a 60-year period from 2010 to 2070. Navigation alternatives will consider facility operation and maintenance, rehabilitation, and new construction needs and opportunities.

In order to facilitate early public involvement in the planning process, the Corps will be conducting two environmental scoping meetings open to the public in the study area. The public is invited to attend these meetings to hear an overview of the study, and assist in the identification of significant issues to be considered during the study process. (See DATES).

DATES: Public scoping meetings will be held on:

1. October 24, 2006, 7 p.m. to 9 p.m., Monaca, PA.

2. October 25, 2006, 7 p.m. to 9 p.m., Coraopolis, PA.

ADDRESSES: The meeting locations are:

1. Monaca, PA—Community College of Beaver County, Library Resource Center, Conference Room 103, One Campus Drive, Monaca, PA 15061.

2. Coraopolis, PA—Holiday Inn, 8256 University Boulevard, Coraopolis, PA 15108.

FOR FURTHER INFORMATION CONTACT: The Corps’ point-of-contact for questions or comments on the study and the environmental impact statement is Mr. Conrad Weiser, U.S. Army Corps of Engineers, Pittsburgh District, 2200 William S. Moorhead Federal Building, 1000 Liberty Avenue, Pittsburgh, PA, 15222-4186. Telephone: (412) 395-7220. E-mail: Conrad.E.Weiser@usace.army.mil. Requests to be placed on the study mailing list should also be sent to this address. General information on the study is also posted on the Corps’ internet site: http://www.Lrp.usace.army.mil/pm/upper_ohio.htm.

SUPPLEMENTARY INFORMATION: 1. Authority: The proposed action is being conducted under the authority of United States Senate, Committee on Public Works resolution dated May 16, 1955; and United States House of Representatives, Committee on Public Works and Transportation resolution dated March 11, 1982.

2. Background: a. The Corps is initiating a study to identify and evaluate feasible alternatives to maintain environmentally sustainable commercial river navigation on the upper 40 miles of the Ohio River in Pennsylvania. Existing locks and dams to be considered in this study are the Emsworth, Dashields, and Montgomery (EDM) locks and dams. The EDM facilities are the uppermost three of the 19 facilities forming the Ohio River Navigation System. This system provides navigable depths the full 981-mile length of the river between its origin at the “Point” in Pittsburgh, PA, to its mouth at Cairo, IL.

b. Emsworth is the oldest operating facility of the Ohio River system. Its locks date from 1921, while its original fixed crest dams were replaced in 1938 with higher gated structures. Dashields and Montgomery locks and dams were placed into operation in 1929 and 1936, respectively. Locks and Dams 52 and 53 near the river's mouth are the only other pre-World War II facilities on the Ohio River system, and these are in the process of being replaced by a single facility, Olmsted Locks and Dam.

c. Emsworth, Dashields, and Montgomery each have two lock chambers, a main chamber measuring 110′ × 600′± and an auxiliary chamber measuring 56′ × 360′. Compared to the 110′ × 1,200′ main lock chambers at the modern Ohio River facilities, they are the lowest capacity locks on the river. They form a bottleneck between the modern downstream Ohio River navigation structures and the tributary Monongahela River locks with their 720-foot chambers. The disparity in capacity is magnified during main chamber closures when all traffic must use the small 56′ × 360′ chambers. These small chambers can only process one barge at a time, necessitating multiple lockages for typical tows of as many as 15 barges, more or less. This study will consider the potential benefits of larger main lock chambers at EDM.

d. Additional concerns at EDM involve the structural integrity of the aged concrete lock walls. Internal cracks throughout the concrete lock walls may eventually propagate through entire wall sections and lead to significant movements of wall sections. A major cause of cracking is concrete deterioration. Because these three locks and dams were constructed prior to the advent of air-entrainment in concrete, the concrete has been particularly susceptible to weathering and freeze-thaw damage. Another source of concern is that concrete construction practices of the 1920's and 1930's, including mix-design, placement, consolidation, curing, and cold/hot weather protection, were much less stringent compared to the quality control tolerances required for a similar project constructed today. Still another contributing factor is the raising of the Emsworth Dams and pool in 1938, which increased the head between the upper and lower pools and increased structural loads on the concrete lock walls.

e. Major rehabilitations on the EDM lock and approach walls undertaken in the 1980s addressed short-term issues, but there remains a concern about their long-term effectiveness. Prior to these major rehabilitation efforts, lock wall surfaces were in advanced stages of deterioration and there were concerns about the stability of various wall sections. Degraded concrete surfaces were removed, and a 12-inch overlay of new concrete was provided in an attempt to retard deterioration rates by preventing water from reaching the interior concrete. However, despite these efforts, water is apparently still reaching the interior concrete and causing it to become saturated and susceptible to additional deterioration.

f. Following years of different attempts at estimating concrete structural reliability, including the possible development of analytical models and expert opinion, it was decided that a condition assessment of these three projects and expert opinion were the appropriate tools to complete this essential task. In September of 2000 a five-person panel of experts was assembled to estimate the current and future reliability of the structures on the upper Ohio River. This panel of experts established probabilities of failures, the potential consequences for various failure modes and estimated the impacts to the expected service life of several repair or replacement options for concrete wall sections.

g. The U.S. Army Corps of Engineers, Great Lakes and Ohio River Division, is nearing completion of a system-wide study of Ohio river navigation projects. The study was initiated in 1995 and is referred to as the Ohio River Mainstem System Study (ORMSS). ORMSS is being conducted by a team of specialists from the Corps' Louisville, Huntington, Nashville, and Pittsburgh districts. The product of this study is a “System Investment Plan,” which will be the strategic “roadmap for reinvestment” establishing priorities for expenditure of federal funds on the navigation system and recommending site-specific feasibility studies.

h. The ORMSS “System Investment Plan” identifies the need for new main locks at the EDM facilities. The Upper Ohio River navigation feasibility study of EDM is the site-specific feasibility study that could lead to project authorization in a future Water Resources Development Act.

i. The ORMSS Report combines plan formulation with a programmatic environmental impact statement in a main report and a series of appendices. The ORMSS Environmental Appendix includes environmental documentation and a system-wide Cumulative Effects Assessment (CEA). The CEA evaluates past environmental impacts, current conditions, and reasonably foreseeable future actions by the Government and others that may impact “Valued Environmental Components” or resources within and adjacent to the Ohio River.

j. In accordance with the National Environmental Policy Act (NEPA) of 1969, the anticipated environmental scope and complexity of the Upper Ohio River navigation feasibility study in Pennsylvania will warrant that the NEPA document be a tiered environmental impact statement (EIS) referencing the ORMSS Programmatic EIS while anticipating future site-specific, supplemental NEPA documents for each recommended project component.

3. Public Participation. a. The Corps will conduct public meetings to gain input from interested agencies, organizations, and the general public concerning the scope and content of the EIS, alternatives that should be analyzed, and related issues and impacts to be addressed in the EIS (see DATES).

b. The Corps invites full public participation to promote open communication and better decision-making. All persons and organizations that have an interest in the Upper Ohio Navigation Study, Pennsylvania, are urged to participate in this NEPA evaluation process.

c. Public comments are welcomed anytime throughout the study process. Formal opportunities for public and agency participation include: (1) Public meetings; (2) correspondence, telephone or e-mail at any time throughout the NEPA process; (3) review and comment on the draft EIS; and (4) review of the final EIS. Schedules and locations for formal review periods will be announced through the study's mailing list and in local news media. Anyone who wishes to be included on the mailing list for public distribution of meeting announcements and documents should contact Mr. Conrad Weiser.

4. Schedule: The draft EIS is anticipated to be released for public review and comment in May 2012. The final report and final EIS are scheduled to be completed in October 2012.

Brenda S. Bowen,
Army Federal Register Liaison Officer.

[FR Doc. 06-8358 Filed 9-28-06; 8:45 am]

BILLING CODE 3710-GM-M